DEPARTMENT OF HEALTH AND HUMAN SERVICES

National Institutes of Health

Center for Scientific Review; Amended Notice of Meeting

Notice is hereby given of a change in the meeting of the Center for Scientific Review Special Emphasis Panel, Small Business: Biological Chemistry, Biophysics, and Assay Development, November 15-16, 2022, 9:00 a.m. to 5:00 p.m., The Bethesdan Hotel Tapestry Collection by Hilton (Formerly Holiday Inn Select), 8120 Wisconsin Avenue, Bethesda, MD 20814, which was published in the Federal Register on October 20, 2022, 87 FR 63790, Doc 2022-22763.

This meeting is being amended to change the meeting start time from 9:00 a.m. to 8:30 a.m. The meeting is closed to the public.

Dated: November 1, 2022.
Melanie J. Pantoja,
Program Analyst, Office of Federal Advisory Committee Policy.

[FR Doc. 2022-24061 Filed 11-3-22; 8:45 am]

BILLING CODE 4140-01-P